CONSUMER PRODUCT SAFETY COMMISSION

16 CFR Parts 1307, 1410, 1500 and 1515

Standards for All Terrain Vehicles and Ban of Three-Wheeled All Terrain Vehicles; Extension of Comment Period

AGENCY: Consumer Product Safety Commission.

ACTION: Notice of extension of comment period.

SUMMARY: The Commission is extending its comment period to receive comments on its notice of proposed rulemaking (“NPR”) concerning actions the Commission proposes to take to address the risk of injury associated with all terrain vehicles (“ATVs”). Seven manufacturers and distributors of ATVs requested a 60-day extension of the comment period. The Commission has decided to grant their request.

DATES: The Office of the Secretary should receive comments on the NPR by December 26, 2006.

ADDRESSES: Comments should be filed by e-mail to cpsc-os@cpsc.gov. Comments also may be filed by telefacsimile to (301) 504-0127 or they may be mailed or delivered, preferably in five copies, to the Office of the Secretary, U.S. Consumer Product Safety Commission, 4330 East West Highway, Bethesda, Maryland 20814-4408; telephone (301) 504-7923. Comments should be captioned “ATV NPR.”

FOR FURTHER INFORMATION CONTACT: Elizabeth Leland, Project Manager, ATV Safety Review, Directorate for Economic Analysis, Consumer Product Safety Commission, 4330 East West Highway, Bethesda, Maryland 20814-4408; telephone (301) 504-7706 or e-mail: eleland@cpsc.gov.

SUPPLEMENTARY INFORMATION: On August 10, 2006, the Commission published an NPR in the Federal Register proposing standards that would apply to adult single-rider and tandem ATVs and to youth ATVs. The Commission also proposed a rule to ban three-wheeled ATVs. 71 FR 45904. The proposed rules were issued under the authority of both the Consumer Product Safety Act (“CPSA”) and the Federal Hazardous Substances Act (“FHSA”). The NPR provided for a 75-day comment period to end October 24, 2006. Seven companies that manufacture and/or distribute ATVs in the United States (American Honda Motor Co., Inc., Arctic Cat, Inc., Bombardier Motor Corporation of America, Kawasaki Motors Corp., U.S.A., Polaris Industries Inc., American Suzuki Motor Corporation, and Yamaha Motor Corporation, U.S.A.) have requested that the Commission extend the comment period for 60 days. The companies stated that they intend to submit comments that include information and analyses that will not be complete in time to meet the comment deadline. The Commission has decided to extend the comment period the requested 60 days to December 26, 2006.

The Commission notes that, given the time necessary for receiving and reviewing comments, it will not be possible to meet the CPSA's requirement that the Commission publish a final rule within 60 days after publishing the proposed rule. See 15 U.S.C. 2058(d)(1). Thus, in accordance with the statutory provision allowing the Commission to extend this 60-day period for good cause shown, id., the Commission extends the period of time for publication of a final rule.

Dated: October 13, 2006.
Todd Stevenson,
Secretary.

[FR Doc. E6-17520 Filed 10-19-06; 8:45 am]

BILLING CODE 6355-01-P